DEPARTMENT OF ENERGY

Public Availability of Department of Energy FY 2016 Service Contract Inventory

AGENCY: Department of Energy.

ACTION: Notice of public availability of FY 2016 Service Contract inventories.

SUMMARY: In accordance with Section 743 of Division C of the Consolidated Appropriations Act of 2010 (Pub. L. 111-117), the Department of Energy (DOE) is publishing this notice to advise the public on the availability of the FY 2016 Service Contract inventory. This inventory provides information on service contract actions over $25,000 that DOE completed in FY 2016. The inventory has been developed in accordance with guidance issued by the Office of Management and Budget's Office of Federal Procurement Policy (OFPP).

FY 2016 government-wide service contract inventory can be found at https://www.acquisition.gov/service-contract-inventory. The Department of Energy's service contract inventory data is included in the government-wide inventory posted on the above link and the government-wide inventory can be filtered to display the inventory data for the Department.

DOE has posted its FY 2015 Analysis and the FY 2016 Analysis Plan at: http://energy.gov/management/downloads/service-contract-inventory.

FOR FURTHER INFORMATION CONTACT: Questions regarding the service contract inventory should be directed to Jeff Davis in the Strategic Programs Division at 202-287-1877 or jeff.davis@hq.doe.gov.

Dated: October 5, 2017.
John R. Bashista,
Director, Office of Acquisition Management.

[FR Doc. 2017-25511 Filed 11-24-17; 8:45 am]

BILLING CODE 6450-01-P